NUCLEAR REGULATORY COMMISSION

Sunshine Act Meeting

Agency Holding the Meeting: Nuclear Regulatory Commission.

Date: Weeks of August 30, September 6, 13, 20, 27, October 4, 2004.

Place: Commissioner's Conference Room, 11555 Rockville Pike, Rockville, Maryland.

Status: Public and Closed.

Matter to be Considered:

Week of August 30, 2004

Friday, September 3, 2004

10 a.m. Affirmation Session (Public Meeting) (Tentative).

a: Public Citizen's Request for Hearing on the Commission's July 2, 2004, Spent Fuel Security Order (Tentative).

Week of September 6, 2004—Tentative

Wednesday, September 8, 2004

9:30 a.m. Discussion of Office of Investigation (OI) Programs and Investigations (Closed—Ex. 7).

Week of September 13, 2004—Tentative

Tuesday, September 14, 2004

9:30 a.m. Discussion of Security Issues (Closed—Ex. 1).

Week of September 20, 2004—Tentative

There are no meetings scheduled for the Week of September 20, 2004.

Week of September 27, 2004—Tentative

There are no meetings scheduled for the Week of September 27, 2004.

Week of October 4, 2004.—Tentative

Thursday, October 7, 2004

10:30 a.m. Discussion of Security Issues (Closed—Ex. 1).

1 p.m. Discussion of Security Issues (Closed—Ex. 1).

The schedule for Commission meetings is subject to change on short notice. To verify the status of meetings call (recording)—(301) 415-1292. Contact person for more information: Dave Gamberoni, (301) 415-1651.

* * * * *

The NRC Commission Meeting Schedule can be found on the Internet at: http://www.nrc.gov/what-we-do/polic-making/schedule.html

* * * * *

The NRC provides reasonable accommodation to individuals with disabilities where appropriate. If you need a reasonable accommodation to participate in these public meetings, or need this meeting notice or the transcript or other information from the public meetings in another format (e.g. braille, large print), please notify the NRC's Disability Program Coordinator, August Spector, at 301-415-7080, TDD: 301-415-2100, or by e-mail at aks@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: August 26, 2004.
Dave Gamberoni,
Office of the Secretary.

[FR Doc. 04-19901 Filed 8-27-04; 9:39 am]

BILLING CODE 7590-01-M